DEPARTMENT OF COMMERCE

National Institute of Standards and Technology

National Telecommunications and Information Administration

DEPARTMENT OF HOMELAND SECURITY

[Docket No. 110829543-1654-02]

National Protection and Programs Directorate; Models To Advance Voluntary Corporate Notification to Consumers Regarding the Illicit Use of Computer Equipment by Botnets and Related Malware; Extension of Comment Period

AGENCY: National Institute of Standards and Technology U.S. Department of Commerce; Department of Homeland Security.

ACTION: Notice; Extension of comment period.

SUMMARY: The Department of Commerce's National Institute of Standards and Technology announces that the closing deadline for submission of comments responsive to the September 21, 2011, request for information on the requirements of, and possible approaches to, creating a voluntary industry code of conduct to address the detection, notification and mitigation of botnets, has been extended until 5 p.m. Eastern Standard Time (EST) on November 14, 2011. Comments received between November 4, 2011, the due date for comments announced in the September 21, 2011 notice, and publication of this notice in the Federal Register, are deemed to be timely.

DATES: Comments are due by 5 p.m. EST on November 14, 2011.

ADDRESSES: Written comments may be submitted by mail to the National Institute of Standards and Technology at the U.S. Department of Commerce, 1401 Constitution Avenue NW., Room 4822, Washington, DC 20230. Submissions may be in any of the following formats: HTML, ASCII, Word, rtf, or pdf. Online submissions in electronic form may be sent to Consumer_Notice_RFI@nist.gov. Paper submissions should include a compact disc (CD). CDs should be labeled with the name and organizational affiliation of the filer and the name of the word processing program used to create the document. Comments will be posted at http://www.nist.gov/itl/.

FOR FURTHER INFORMATION CONTACT: For general questions about this amended Notice contact: Jon Boyens, National Institute of Standards and Technology, 100 Bureau Drive, Mail Stop 8930, Gaithersburg, MD 20899, jon.boyens@nist.gov. Please direct media inquires to NIST's Office of Public Affairs at (301) 975-NIST.

SUPPLEMENTARY INFORMATION: On September 21, 2011, the U.S. Department of Commerce and U.S. Department of Homeland Security requested information on the requirements of, and possible approaches to, creating a voluntary industry code of conduct to address the detection, notification and mitigation of botnets. (See 76 FR 58466.) The Department of Commerce announces that the closing deadline for submission of comments responsive to the September 21, 2011 notice has been extended until 5 p.m. Eastern Standard Time (EST) on November 14, 2011. Comments received between November 4, 2011, the due date for comments announced in the September 21, 2011 notice, and publication of this notice in the Federal Register, are deemed to be timely.

Dated: October 31, 2011.
Patrick Gallagher,
Under Secretary of Commerce for Standards and Technology.
Rand Beers,
Under Secretary, National Protection and Programs Directorate, Department of Homeland Security.

[FR Doc. 2011-28528 Filed 11-2-11; 8:45 am]

BILLING CODE 3510-13-P